DEPARTMENT OF TRANSPORTATION

Federal Transit Administration

49 CFR Part 611

[Docket No. FTA-2015-0007]

RIN 2132-ZA03

Notice of Availability of Proposed Interim Policy Guidance for the Capital Investment Grant Program

AGENCY: Federal Transit Administration (FTA), DOT.

ACTION: Notice of availability of proposed interim policy guidance; request for comments.

SUMMARY: The Federal Transit Administration (FTA) invites public comment on interim policy guidance the agency is proposing for the Capital Investment Grant (CIG) program. The proposed interim guidance has been placed in the docket and posted on the FTA Web site. If adopted, this proposed interim policy guidance will complement FTA's regulations that govern the CIG program by providing a deeper level of detail about the methods for applying the project justification and local financial commitment criteria for rating and evaluating New Starts, Small Starts, and Core Capacity Improvement projects, and the procedures for getting through the steps in the process required by law.

DATES: Comments must be received on or before May 8, 2015. Any comments received beyond this deadline will be considered to the extent practicable.

ADDRESSES: You may submit comments to DOT docket number FTA-2015-0007 by any of the following methods:

Federal eRulemaking Portal: Go to http://www.regulations.gov and follow the online instructions for submitting comments.

U.S. Mail: Docket Management Facility, U.S. Department of Transportation, 1200 New Jersey Avenue SE., West Building, Room W12-140, Washington, DC 20590-0001.

Hand Delivery or Courier: U.S. Department of Transportation, 1200 New Jersey Avenue SE., West Building, Ground Floor, Room W12-140, Washington, DC 20590, between 9 a.m. and 5 p.m., Monday through Friday, except Federal holidays.

Fax: 202-493-2251.

Instructions: You must include the agency name (Federal Transit Administration) and docket number (FTA-2015-0007) for this notice at the beginning of your comments. You must submit two copies of your comments if you submit them by mail. If you wish to receive confirmation FTA received your comments, you must include a self-addressed, stamped postcard. Due to security procedures in effect since October 2001, mail received through the U.S. Postal Service may be subject to delays. Parties submitting comments may wish to consider using an express mail firm to ensure prompt filing of any submissions not filed electronically or by hand.

All comments received will be posted, without charge and including any personal information provided, to http://www.regulations.gov, where they will be available to internet users. You may review DOT's complete Privacy Act Statement published in the Federal Register on April 11, 2000, at 65 FR 19477. For access to the docket and to read background documents and comments received, go to http://regulations.gov at any time or to the U.S. Department of Transportation, 1200 New Jersey Avenue SE., Docket Management Facility, West Building Ground Floor, Room W12-140, Washington, DC 20590 between 9 a.m. and 5 p.m., Monday through Friday, except Federal holidays.

FOR FURTHER INFORMATION CONTACT: Elizabeth Day, FTA Office of Planning and Environment, telephone (202) 366-5159 or Elizabeth.Day@dot.gov.

SUPPLEMENTARY INFORMATION: Pursuant to 49 U.S.C. 5309(g)(5), FTA is obliged to publish policy guidance on the review and evaluation process and criteria for projects eligible for Federal funding under the CIG program each time the agency makes significant changes to the process and criteria, and in any event, at least once every two years. Also, FTA is obliged to invite public comment on the guidance, and to publish its response to comments. In brief, the policy guidance that FTA periodically issues for the discretionary Capital Investment Grant (“CIG”) program complements the FTA regulations that govern the CIG program, codified at 49 CFR part 611. The regulations set forth the process that grant applicants must follow to be considered eligible for discretionary funding under the CIG program, and the procedures and criteria FTA uses to rate and evaluate the projects eligible for that discretionary funding. The policy guidance provides a greater level of detail about the methods FTA uses to apply the criteria for both project justification and local financial commitment, and the sequential steps a sponsor must follow in developing a project.

The interim policy guidance FTA is proposing today is available in its entirety on the agency's public Web site at http://www.fta.dot.gov, and in the docket at http://www.regulations.gov. It is approximately 100 typewritten pages in length, arranged in three stand-alone chapters for each of the three types of projects eligible for CIG funds: New Starts, Small Starts, and Core Capacity Improvements. Each chapter provides a short introduction, a discussion of eligibility for that type of project, a summary of the requirements for entry into and getting through each step of the CIG process, information on each of the project evaluation criteria, and an explanation of how FTA will determine the overall rating for a project. Each type of project in the CIG program—a New Start, Small Start, or Core Capacity Improvement—is governed by a unique set of requirements, although there are many similarities amongst the three sets of requirements.

Most importantly, the guidance proposed today addresses four subjects not addressed in either the regulations or previous policy guidance for the CIG program. These are, specifically: (1) The measures and breakpoints for the congestion relief criterion applicable to New Starts and Small Starts projects; (2) the evaluation and rating process for Core Capacity Improvement projects, including the measures and breakpoints for all the project justification and local financial commitment criteria applicable to those projects; (3) the prerequisites for entry into each phase of the CIG process for each type of project in the CIG program, and the requirements for completing each phase of that process; and (4) ways in which certain New Starts, Small Starts, and Core Capacity Improvement projects can qualify for “warrants” entitling them to automatic ratings on some of the evaluation criteria. Readers should please direct their comments to these four subjects. All the other material in this guidance document has been developed through public notice-and-comment for the regulations at 49 CFR part 611 or the previous policy guidance for the CIG program. The newly proposed requirements are clearly identified in the text of each chapter, and in an accompanying table, for easy reference.

This proposed policy guidance is characterized as “interim” in that, in the near future, FTA will initiate a rulemaking to amend the regulations at 49 CFR part 611 to fully carry out the authorization statute for the CIG program, 49 U.S.C. 5309, as amended by the Moving Ahead for Progress in the 21st Century Act (Pub. L. 112-141; July 6, 2012) (“MAP-21”). The information gained through the public comment process on this proposed interim policy guidance will inform the future rulemaking. After reviewing and responding to the comments received on this proposed guidance, FTA will issue a final iteration of the interim guidance, and then initiate the rulemaking.

Therese W. McMillan,
Acting Federal Transit Administrator.

[FR Doc. 2015-08063 Filed 4-7-15; 8:45 am]

BILLING CODE P